DEPARTMENT OF THE INTERIOR

Bureau of Land Management

(WY-050-2001-1060-JJ)

Notice of Intent To Remove Excess and Stray Wild Horses

SUMMARY: The Wild, Free Roaming Horse and Burro Act (Pub. L. 92-195) requires that , among other things, horses that exceed the Appropriate Management Levels (AMLs) established for them or stray from designated Herd Management Areas (HMAs) be removed. In order to accomplish that, the Lander Field Office of the Bureau of Land Management plans to remove 350 excess and stray horses from four contiguous herd areas within the Lander Field Office known as the Muskrat Basin HMA, Conant Creek HMA, Rock Creek Mountain HMA, Dishpan Butte HMA and an area north and east of the Muskrat Basin HMA into which horses have strayed outside of the HMA. The removal is scheduled for the summer/fall seasons of 2001. Specific dates depend on the weather and soil conditions, and other factors unforseen at this time. The Appropriate Management level for these four contiguous areas is 320 horses. An Environmental Analysis (EA), and Gather Plan for this removal will be available on June 15, 2001 for a thirty (30) day comment period. from: Jack Kelly, Field Manager, P.O. Box 589, Lander, Wyoming 82520; (307) 332-8400. These documents are also available for review on the Wyoming BLM homepage at www.wy.blm.gov

FOR FURTHER INFORMATION CONTACT: For further information please contact Roy Packer, Bureau of Land Management, Lander Field Office, 1335 Main Street, P.O. Box 589, Lander, Wyoming 82520, (307) 332-8400.

Dated: May 9, 2001.
Roy Packer,
Acting Field Manager.

[FR Doc. 01-12516 Filed 5-17-01; 8:45 am]

BILLING CODE 4310-22-P